DEPARTMENT OF THE INTERIOR

National Park Service

Announcement of the National Park Subsistence Resource Commission (SRC) Meetings for Aniakchak National Monument and Lake Clark National Park

SUMMARY: The National Park Service (NPS) announces the SRC meeting schedule for the following NPS areas within the Alaska Region: Aniakchak National Monument and Lake Clark National Park. The purpose of each meeting is to develop and continue work on subsistence hunting recommendations and other related subsistence management issues. Each meeting is open to the public and will have time allocated for public testimony. The public is welcomed to present written or oral comments to the SRC.

The NPS SRC program is authorized under Title VIII, Section 808, of the Alaska National Lands Conservation Act, Public Law 96-487, to operate in accordance with the provisions of the Federal Advisory Committee Act. Draft meeting minutes will be available for public inspection approximately six weeks after each meeting.

DATES: The meeting times and locations are:

1. Aniachak National Monument SRC, Monday September 26, 2005, from 1 p.m. to 5 p.m. at the Port Heiden Community Center, telephone (907) 837-2296.

2. Lake Clark National Park SRC, Thursday, September 29, 2005, from 1 p.m. to 5 p.m. at the Nondalton Community Center, telephone (907) 294-2288.

FOR FURTHER INFORMATION CONTACT: Mary McBurney, Subsitence Program Manager, Aniakchak National Monument and Lake Clark National Park at (907) 644-3598 or (907) 235-7891.

SUPPLEMENTARY INFORMATION: SRC meeting locations and dates may need to be changed on weather of local circumstances. Notice of each meeting will be published in local newspapers and announced on local radio stations prior to the meeting dates. The agendas for each meeting include the following:

(1) Call to order.

(2) Roll call to confirm quorum.

(3) Introductions.

(4) Superintendent's welcome.

(5) Additions, corrections and approval of agenda.

(6) Approval of SRC meeting minutes.

(7) SRC purpose and role.

(8) Status of membership.

(9) Park Subsistence coordinator's report.

(10) Old business.

(11) New business.

(a) Call for proposals to change Federal subsistence hunting and trapping regulations for the 2006-2007 regulatory year.

(b) Review of 2005-2006 Federal Subsistence Board Fisheries Proposals.

(12) Other business.

(13) SRC work session-prepare correspondence and recommendations.

(14) Set time and place for next meeting.

(15) Adjournment.

Marcia Blaszak,
Regional Director, Alaska Region.

[FR Doc. 05-15315 Filed 8-2-05; 8:45 am]

BILLING CODE 4312-HE-P